DEPARTMENT OF JUSTICE

Notice of Lodging of Proposed Consent Decree Under the Safe Drinking Water Act

On April 9, 2024, the Department of Justice lodged a proposed Consent Decree with the United States District Court for the Eastern District of California in the lawsuit entitled United States v. Grindstone Indian Rancheria of Wintun-Wailaki Indians of California, Civil Action No. 2:24-cv-01044-KJM-CKD.

The proposed Consent Decree would resolve claims against the Grindstone Indian Rancheria of Wintun-Wailaki Indians of California (“Defendant”) arising under sections 1414(g) and 1431 of the Safe Drinking Water Act (“SDWA”), 42 U.S.C. 300g-3(g) and 300i, and the SDWA's National Primary Drinking Water Regulations at 40 CFR part 141, as well as for its failure to comply with the requirements of two administrative orders issued by the United States Environmental Protection Agency pertaining to Defendant's noncompliance with the SDWA and its regulations at the Grindstone Indian Rancheria Public Water System. The proposed Consent Decree resolves these claims and includes a civil penalty of $8,963 and injunctive relief including, but not limited to, demonstrating compliance with surface water treatment requirements, providing boil water notices and alternative water supply, retaining at least two full time operators for the drinking water system, providing annual reporting to its customers, providing operating reports to EPA, and developing and implementing an extensive operation and maintenance plan for the water system.

The publication of this notice opens a period for public comment on the proposed Consent Decree. Comments should be addressed to the Assistant Attorney General, Environment and Natural Resources Division, and should refer to United States v. Grindstone Indian Rancheria of Wintun-Wailaki Indians of California, D.J. Ref. No. 90-5-1-1-12322. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed Consent Decree may be examined and downloaded at this Justice Department website: https://www.justice.gov/enrd/consent-decrees. If you require assistance accessing the proposed Consent Decree, you may request assistance by email or by mail to the addresses provided above for submitting comments.

Scott Bauer,
Assistant Section Chief, Environmental Enforcement Section, Environment and Natural Resources Division.

[FR Doc. 2024-07926 Filed 4-15-24; 8:45 am]

BILLING CODE 4410-15-P